DEPARTMENT OF LABOR

Employment and Training Administration

[TA-W-63,421]

Kimble Chase Life Science & Research Products LLC, Formerly Known as Kimble Kontes, Vineland, NJ; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on June 16, 2008, applicable to workers of Kimble Chase, LLC, Vineland, New Jersey. The notice was published in the Federal Register on July 14, 2008 (73 FR 40388).

At the request of the State agency, the Department reviewed the certification for workers of the subject firm. The workers are engaged in the production of glassware for scientific use.

New information shows the complete name of the subject firm should read Kimble Chase Life Science & Research Products LLC. Information also shows that before July 1, 2007, the subject firm was formerly known as Kimble Kontes. Some of the workers wages at the subject firm are being reported under a separate Unemployment Insurance (UI) tax account for Kimble Chase Life Science & Research Products LLC, formerly known as Kimble Kontes.

Accordingly, the Department is amending this certification to properly reflect these matters.

The intent of the Department's certification is to include all workers of Kimble Chase Life Science & Research Products LLC, formerly known as Kimble Kontes who were adversely affected by increased imports following a shift in production to Mexico.

The amended notice applicable to TA-W-63,421 is hereby issued as follows:

All workers of Kimble Chase Life Science & Research Products LLC, formerly known as Kimble Kontes, Vineland, New Jersey, who became totally or partially separated from employment on or after May 19, 2007, through June 16, 2010, are eligible to apply for adjustment assistance under Section 223 of the Trade Act of 1974, and are also eligible to apply for alternative trade adjustment assistance under Section 246 of the Trade Act of 1974.

Signed at Washington, DC, this 25th day of September 2008.
Richard Church,
Certifying Officer, Division of Trade Adjustment Assistance.

[FR Doc. E8-23300 Filed 10-2-08; 8:45 am]

BILLING CODE 4510-FN-P